DEPARTMENT OF JUSTICE

Notice of Lodging of Consent Decree Under the Comprehensive Environmental Response, Compensation and Liability Act (“CERCLA”)

Consistent with section122(i) of CERCLA, 42 U.S.C. 9622(i), and 28 CFR 50.7, a Partial Consent Decree with Koch Sulfur Products Company LLC was lodged with the United States District Court for the Middle District of Georgia on April 20, 2005, in the matter of United States v. American Cyanamid, et al., No. 1:02-CV-109-1 (M.D. Ga.) (Docket No. 160). In that action, the United States seeks to recover from various Defendants, pursuant to sections 107 and 113(b)(2) of the Comprehensive Environmental Response, Compensation, and Liability Act of 1980, as amended, (“CERCLA”), 42 U.S.C. 9607 and 9613(g)(2), the costs incurred and to be incurred by the United States in responding to the release and/or threatened release of hazardous substances at and from the Stoller Chemical Company/Pelham Site (“Site”) in Pelham, Mitchell County, Georgia. Under the proposed Partial Consent Decree, Koch Sulfur Products Company LLC will pay $911,170 to the Hazardous Substances Superfund in reimbursement of the costs incurred by the United States at the Site. The Department of Justice will receive for a period of thirty (30) days from the date of this publication comments relating to the Consent Decree. Comments should be addressed to the Assistant Attorney General, Environmental and Natural Resources Division, P.O. Box 7611, U.S. Department of Justice, Washington, DC 20044-7611, and should refer to United States v. American Cyanamid, et al., (M.D. Ga.) (Partial Consent Decree with Koch Sulfur Products Company LLC, DOJ Ref. No. 90-11-3-07602). The Consent Decree may be examined at the Office of the United States Attorney, Middle District of Georgia, Cherry St. Galleria, 4th Floor, 433 Cherry St., Macon, GA 31201, ((478) 752-3511), and at EPA Region 4, Atlanta Federal Center, 61 Forsyth Street, SW., Atlanta, Georgia 30303 (contact Bonnie Sawyer, Esq. ((404) 562-9539). During the public comment period, the Consent Decree may also be examined on the following Department of Justice Web site, http://www.usdoj.gov/enrd/open.html. A copy of the Partial Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please refer to United States v. American Cyanamid, et al., (M.D. Ga.) (Partial Consent Decree with Koch Sulfur Products Company LLC, DOJ Ref. No. 90-11-3-07602), and enclose a check in the amount of $5.75 (25 cents per page reproduction cost) payable to the U.S. Treasury.

Ellen Mahan,
Assistant Section Chief, Environmental Enforcement Section, Environment and Natural Resources Division.

[FR Doc. 05-8476 Filed 4-27-05; 8:45 am]

BILLING CODE 4410-15-M